DEPARTMENT OF THE INTERIOR

Bureau of Land Management

[CACA-051552, LLCAD0700 L51010000 FX0000 LVRWB10B3980]

Notice of Availability of the Record of Decision for the Ocotillo Express LLC's Ocotillo Wind Energy Facility and Associated California Desert Conservation Area Plan Amendment, Imperial County, CA

AGENCY: Bureau of Land Management, Interior.

ACTION: Notice of availability.

SUMMARY: The Bureau of Land Management (BLM) announces the availability of the Record of Decision (ROD)/Approved Amendment to the California Desert Conservation Area (CDCA) Plan for the Ocotillo Wind Energy Facility (OWEF) to be located in the California Desert District near Imperial County, California. The Secretary of the Interior approved the ROD on May 11, 2012, which constitutes the final decision of the Department

ADDRESSES: Copies of the ROD/Approved Amendment to the CDCA Plan are available upon request from the Field Manager, BLM El Centro Field Office, 1661 S. 4th Street, El Centro, California 92243 and the BLM California Desert District Office, 22835 Calle San Juan de Los Lagos, Moreno Valley, California 92553, or via the Internet at the following Web site: http://www.blm.gov/ca/st/en/fo/elcentro.html.

FOR FURTHER INFORMATION CONTACT: Cedric Perry, BLM Project Manager, telephone (951) 697-5388; address 22835 Calle San Juan De Los Lagos, Moreno Valley, CA 92553; email Cedric_Perry@ca.blm.gov. Persons who use a telecommunications device for the deaf (TDD) may call the Federal Information Relay Service (FIRS) at (800) 877-8339 to contact the above individual during normal business hours. The FIRS is available 24 hours a day, 7 days a week, to leave a message or question with the above individual. You will receive a reply during normal business hours.

SUPPLEMENTARY INFORMATION: Pattern Energy, Inc., through its wholly owned subsidiary, Ocotillo Express LLC, filed right-of-way (ROW) application CACA-51552 for the OWEF. The project as originally proposed would have consisted of 155 wind turbines (1.6 to 3.0 MW each) on 12,436 acres of predominately BLM-managed lands with a generating capacity of up to 465 MW and the following ancillary facilities; a substation; administration, operations and maintenance facilities; transmission lines; and temporary construction lay down areas. The project site is located west of the city of El Centro in Imperial County, California.

The project site is in the California Desert District within the planning boundary of the CDCA Plan, which is the applicable Resource Management Plan for the project site and surrounding areas. The CDCA Plan, while recognizing the potential compatibility of wind energy generation facilities with other uses on public lands, requires that all sites associated with power generation or transmission not already identified in the Plan be considered through the BLM's land use plan amendment process. As a result, in connection with its approval of a ROW grant for the OWEF, the BLM had to amend the CDCA Plan to recognize the project site as suitable for wind energy development. The approved Amendment to the CDCA Plan specifically amends the CDCA Plan to make such a determination.

The BLM Preferred Alternative identified in the Final Environmental Impact Statement/Environmental Impact Report (EIS/EIR) is the Refined Project, which involves the construction and operation of 112 wind turbines at the project site, with a generating capacity of up to 315 MW. The Refined Project eliminates 43 turbines that were analyzed under the Proposed Action in order to reduce effects to cultural resources. The Refined Project configuration is comprised of a subset of the turbine sites that are already part of the existing alternatives analyzed in the Final EIS/EIR. The Refined Project was approved by the ROD and will result in construction of the wind generation facility consisting of: up to 112 turbines with a generating capacity of 315 MW on approximately 10,151 acres of BLM-managed lands in Imperial Valley, California, and the following ancillary facilities: a substation; administration, operations and maintenance facilities; transmission lines; and temporary construction lay down areas.

With respect to the plan amendment, the publication of the Notice of Availability for the Final EIS/EIR on March 9, 2012 initiated a 30-day protest period on the proposed plan amendment, which concluded April 9, 2012. The BLM received 12 timely and complete written protests, each of which was resolved prior to the execution of the ROD. These protest resolutions are summarized in the Director's Protest Summary Report attached to the ROD. The proposed amendment to the CDCA Plan was not modified as a result of the protests received or their resolution. Simultaneously with the plan amendment protest period, the Governor of California conducted an expedited 30-day consistency review of the proposed CDCA Plan amendment to identify any inconsistencies with State or local plan, policies or programs; no inconsistencies were identified by the Governor's Office.

Because this decision is approved by the Secretary of the Interior, it is not subject to administrative appeal (43 CFR 4.410(a)(3)).

Authority: 40 CFR 1506.6.

Timothy Spisak,
Deputy Assistant Director, Bureau of Land Management.

[FR Doc. 2012-14376 Filed 6-12-12; 8:45 am]

BILLING CODE 4310-40-P